DEPARTMENT OF COMMERCE

National Oceanic and Atmospheric Administration

[RTID 0648-XE322]

Takes of Marine Mammals Incidental to Specified Activities; Taking Marine Mammals Incidental to SouthCoast Wind Energy Marine Site Characterization Surveys Off the Coast of Massachusetts and Rhode Island

AGENCY: National Marine Fisheries Service (NMFS), National Oceanic and Atmospheric Administration (NOAA), Commerce.

ACTION: Notice; issuance of renewal incidental harassment authorization.

SUMMARY: In accordance with the regulations implementing the Marine Mammal Protection Act (MMPA), as amended, notification is hereby given that NMFS has issued a renewal incidental harassment authorization (IHA) to SouthCoast Wind Energy, LLC (SouthCoast Wind) to incidentally harass marine mammals incidental to activities associated with marine site characterization surveys off of Massachusetts and Rhode Island, specifically within the Bureau of Ocean Energy Management (BOEM) Commercial Lease of Submerged Lands for Renewable Energy Development on the Outer Continental Shelf (Lease) Area OCS-A 0521 and associated export cable route (ECR).

DATES: This renewal IHA is valid from the date of issuance through May 11, 2025.

ADDRESSES: Electronic copies of the original application, renewal request, and supporting documents (including the Federal Register notices of the original proposed and final authorizations, and the previously issued and renewal IHAs), as well as a list of the references cited in this document, may be obtained online at: https://www.fisheries.noaa.gov/national/marine-mammal-protection/incidental-take-authorizations-other-energy-activities-renewable. In case of problems accessing these documents, please call the contact listed below.

FOR FURTHER INFORMATION CONTACT: Jennifer Gatzke, Office of Protected Resources, NMFS, (301) 427-8401.

SUPPLEMENTARY INFORMATION:

Background

The MMPA prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are promulgated or, if the taking is limited to harassment, an incidental harassment authorization is issued.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of such species or stocks for taking for certain subsistence uses (referred to here as “mitigation measures”). NMFS must also prescribe requirements pertaining to monitoring and reporting of such takings. The definition of key terms such as “take,” “harassment,” and “negligible impact” can be found in the MMPA and the NMFS's implementing regulations (see 16 U.S.C. 1362; 50 CFR 216.103).

NMFS' regulations implementing the MMPA at 50 CFR 216.107(e) indicate that IHAs may be renewed for additional periods of time not to exceed 1 year for each reauthorization. In the notice of proposed IHA for the initial IHA, NMFS described the circumstances under which we would consider issuing a renewal for this activity, and requested public comment on a potential renewal under those circumstances. Specifically, on a case-by-case basis, NMFS may issue a one-time 1-year renewal of an IHA following notice to the public providing an additional 15 days for public comments when (1) up to another year of identical, or nearly identical, activities as described in the Detailed Description of Specified Activities section of the initial IHA issuance notice is planned or (2) the activities as described in the Description of the Specified Activities and Anticipated Impacts section of the initial IHA issuance notice would not be completed by the time the initial IHA expires and a renewal would allow for completion of the activities beyond that described in the DATES section of the notice of issuance of the initial IHA, provided all of the following conditions are met:

1. A request for renewal is received no later than 60 days prior to the needed renewal IHA effective date (recognizing that the renewal IHA expiration date cannot extend beyond 1 year from expiration of the initial IHA).

2. The request for renewal must include the following:

• An explanation that the activities to be conducted under the requested renewal IHA are identical to the activities analyzed under the initial IHA, are a subset of the activities, or include changes so minor (e.g., reduction in pile size) that the changes do not affect the previous analyses, mitigation and monitoring requirements, or take estimates (with the exception of reducing the type or amount of take); and

• A preliminary monitoring report showing the results of the required monitoring to date and an explanation showing that the monitoring results do not indicate impacts of a scale or nature not previously analyzed or authorized.

3. Upon review of the request for renewal, the status of the affected species or stocks, and any other pertinent information, NMFS determines that there are no more than minor changes in the activities, the mitigation and monitoring measures will remain the same and appropriate, and the findings in the initial IHA remain valid.

An additional public comment period of 15 days (for a total of 45 days), with direct notice by email, phone, or postal service to commenters on the initial IHA, is provided to allow for any additional comments on the proposed renewal. A description of the renewal process may be found on our website at: https://www.fisheries.noaa.gov/national/marine-mammal-protection/incidental-harassment-authorization-renewals.

History of Request

On May 11, 2023, NMFS issued an IHA to SouthCoast Wind to take marine mammals incidental to marine site characterization off Massachusetts and Rhode Island in the New England region, specifically within BOEM Lease Area OCS-A-0521 and associated ECR areas (88 FR 31678, May 18, 2023), effective from May 12, 2023 through May 11, 2024. This 2023 IHA was substantially similar to the prior 2021 IHA associated with identical survey activities in the same lease area (86 FR 27393, May 20, 2021; 86 FR 38033, July 19, 2021) and, therefore, Federal Register notices for the 2023 IHA relied heavily upon information originally presented in Federal Register notices for the 2021 IHA.

On July 1, 2024, NMFS received an application from SouthCoast Wind for the renewal of the initial 2023 IHA. As described in the application for renewal, the activities for which authorization of incidental take is requested consist of activities that are covered by the initial authorization but were not completed prior to its expiration. As required, the applicant also provided a monitoring report (available at https://www.fisheries.noaa.gov/action/incidental-take-authorization-southcoast-wind-energy-llcs-marine-site-characterization) which confirms that the applicant has implemented the required mitigation and monitoring, and which also shows that no impacts of a scale or nature not previously analyzed or authorized have occurred as a result of the activities conducted. The notice of the proposed renewal incidental harassment authorization was published on September 19, 2024 (89 FR 76796). There are no changes from the proposed authorization to this final authorization.

Description of the Specified Activities and Anticipated Impacts

Under the initial IHA, SouthCoast Wind planned to conduct marine site characterization surveys, including high-resolution geophysical (HRG) surveys, in waters off Massachusetts and Rhode Island, specifically within BOEM Lease Area OCS-A 0521 and associated ECR areas. SouthCoast Wind's 2023 survey plan included a total of approximately 2,700 km tracklines. However, only 718 km of survey tracklines were completed. SouthCoast Wind was unable to complete the planned surveys associated with the 2023 IHA prior to its expiration.

Under the renewal IHA, SouthCoast Wind is planning to complete a subset of the activities during the remainder of October 2024—May 2025, using the same survey equipment, methods and types of vessels as those previously analyzed. The 2024-2025 surveys will also be within the same survey area described in the applications for the 2021 and 2023 IHAs. The planned survey trackline, the number of active sound source days (the number of days the vessels will be actively emitting sound into the water column), and vessel days (number of days that the vessels will be present in the area) will be reduced in 2024-2025. A total of up to 700 km (435 mi) of trackline (500 km (311 mi) in the Lease Area (Inter-Array Cable surveys) and 200 km (124 mi) in the ECC will be surveyed (table 1). On average, approximately 50 km (31 mi) will be surveyed per day within the Lease Area and 15 km (9 mi) per day within the ECC, resulting in 10 active sound source days in the Lease Area and approximately 14 active sound source days in the ECC (for a total of approximately 24 active sound source days in the entire project area). The previous IHA application described up to four vessels being utilized concurrently to conduct the surveys, and this would be unchanged under the 2024-2025 renewal IHA. There are no changes to mitigation and monitoring requirements from the 2023-2024 IHA to this 2024 IHA renewal. The only changes under this renewal IHA are that fewer trackline kilometers will be surveyed, there will be fewer sound source days, and fewer vessel days. More information can be found in the following Federal Register notices (86 FR 27393, May 20, 2021; 86 FR 38033, July 19, 2021; 88 FR 14335, March 8, 2023; 88 FR 31678, May 18, 2023; 89 FR 76796, September 19, 2024).

Table 1—Geophysical Surveys Completed in 2023-2024 and Tracklines Remaining
[In Km]
Location | IHA trackline planned 2023-2024 | Total trackline completed 2023-2024 | Planned trackline 2024-2025
ECC—Potential HDD | 750 | 0 | ᵃ 200
Lease Area—Inter-array Cable | 1,950 | 718 | ᵃ 500
ᵃ The length of the planned trackline is reduced from the original scope described for 2023 IHA.

The potential impacts of SouthCoast Wind's planned activities on marine mammals involve potential acoustic stressors and are unchanged from the impacts described in the Federal Register notices for the 2021 IHA (86 FR 27393, May 20, 2021; 86 FR 38033, July 19, 2021). Underwater sound, resulting from particular components of SouthCoast Wind's HRG survey activities, has the potential to result in incidental take of marine mammals, in the form of Level B harassment only, in the specified geographic region. This renewal IHA is for a subset of the work that was not completed by the expiration date of the initial IHA. The renewal IHA authorizes incidental take, by Level B harassment only, of 15 species (comprising 15 stocks) of marine mammals for a subset of marine site characterization survey activities to be completed in less than 1 year (i.e., by May 11, 2025), in the same general area, using survey methods identical to those conducted under the initial IHA. Neither SouthCoast Wind nor NMFS expects serious injury or mortality to result from this activity and, therefore, an IHA is appropriate. Take by Level A harassment (injury) is unlikely, even absent mitigation, based on the characteristics of the signals produced by the acoustic sources planned for use. Therefore, the anticipated effects on marine mammals and the affected stocks also remain the same. All mitigation, monitoring, and reporting measures would remain exactly as required by the initial IHA (88 FR 31678, May 18, 2023).

Detailed Description of the Activity

A detailed description of the marine site characterization survey activities for which incidental take is authorized here may be found in the Federal Register notices for the 2021 IHA (86 FR 27393, May 20, 2021; 86 FR 38033, July 19, 2021). The specific geographic region, survey location, specified activities, including the types of survey equipment and number of survey vessels planned for use, are identical to those described in these previous notices, with the exception that the scale of work is reduced. Only a subset of the planned HRG work was completed under the 2023 IHA (88 FR 14335, March 8, 2023; 88 FR 31678, May 18, 2023). Between May 18 and July 10, 2023, a total of 55 survey days and 718 km (446 mi) of tracklines were completed. SouthCoast Wind proposes to conduct a subset (700 km (435 mi)) of the tracklines that were not completed prior to the expiration of the 2023 IHA (table 1).

Description of Marine Mammals

A description of the marine mammals in the area of the activities for which authorization of take is proposed here, including information on abundance, status, distribution, and hearing, may be found in the Federal Register notices of the proposed IHAs for the previous authorizations (86 FR 27393, May 20, 2021; 88 FR 14335, March 8, 2023). Since the publication of the final Federal Register notice (88 FR 31678, May 18, 2023), NMFS has reviewed the monitoring data from the prior IHA, the draft 2023 Stock Assessment Report (SAR), which included updates to certain stock abundances since the 2023 IHA was issued, information on relevant Unusual Mortality Events (UME), and other scientific literature.

The draft 2023 SAR updated the population estimate (Nbest) of North Atlantic right whales (NARW) from 338 to 340 and annual mortality and serious injury from 31.2 to 27.2. The updated population estimate in the draft 2023 SAR is based upon sighting history through December 2021 (89 FR 5495, January 29, 2024). Total annual average observed NARW mortality during the period 2017-2021 was 7.1 animals and annual average observed fishery mortality was 4.6 animals, however, estimates of 27.2 total mortality and 17.6 fishery mortality account for undetected mortality and serious injury (89 FR 5495, January 29, 2024). In October 2023, NMFS released a technical report identifying that the NARW population size based on sighting history through 2022 was 356 whales, with a 95 percent credible interval ranging from 346 to 363 (Linden, 2023).

The draft 2023 SARs include updates for additional marine mammal species and stocks (i.e., NARW, fin whale, sei whale, minke whale, sperm whale, Atlantic spotted dolphin, Atlantic white-sided dolphin, bottlenose dolphin (Western North Atlantic—Offshore stock), common dolphin, long-finned pilot whales, Risso's dolphin, harbor porpoise, and gray seal), which are described in table 2 of the Federal Register notice proposing this renewal IHA (89 FR 76796, September 19, 2024). For species for which there has been no change between the finalization of the final 2022 SARs to the release of the draft 2023 SARs, NMFS has noted that below.

Potential Effects on Marine Mammals and Their Habitat

A description of the potential effects of the specified activity on marine mammals and their habitat for the activities for which take is authorized may be found in the Federal Register notices for the 2021 IHA (86 FR 11930, March 1, 2021; 86 FR 27393, May 20, 2021; 86 FR 38033, July 19, 2021) and are incorporated by reference in the 2023 IHA (88 FR 14335, March 8, 2023; 88 FR 31678, May 18, 2023). NMFS has reviewed the monitoring data from the initial 2023 IHA, recent draft SARs, information on relevant UMEs, other scientific literature, and public comments, and determined that there is no new information that affects our initial analysis of impacts on marine mammals and their habitat.

Estimated Take

A detailed description of the methods and inputs used to estimate take for the specified activity is found in the Federal Register notices for the 2021 IHA (86 FR 11930, March 1, 2021; 86 FR 27393, May 20, 2021; 86 FR 38033, July 19, 2021), and is incorporated by reference in both the proposed 2023 IHA (the initial authorization) (88 FR 14335, March 8, 2023), and the proposed renewal IHA (89 FR 76796, September 19, 2024). The applicable source levels and marine mammal density/occurrence data used to estimate take remain unchanged from those used in support of the initial IHA. Similarly, the stocks taken, methods of take, and types of take remain unchanged from the initial IHA. The number of takes authorized in this renewal IHA are a subset of the initial authorized takes that better represent the amount of activity that SouthCoast Wind has left to complete. These estimated takes, which reflect the remaining survey days, are indicated below in table 2.

Table 2—Number of Authorized Takes, by Level B Harassment, and Percentages of Each Stock Abundance for the 2024-2025 Survey Period
Species | NMFS stock abundance | Combined density based calculated takes | Authorized takes | Percentage of stock abundance
NARW | 340 | 1.2 | ᵃ 2 | 0.59
Fin whale | 6,802 | 0.5 | ᶜ 3 | 0.04
Sei whale | 6,292 | 0.3 | ᵃ 2 | 0.03
Minke whale | 21,968 | 2.7 | 3 | 0.02
Humpback whale | 1,396 | 0.5 | ᵇ 11 | 0.86
Sperm whale | 5,895 | 0.1 | ᵃ 2 | 0.03
Atlantic white-sided dolphin | 93,233 | 5.8 | ᵃ 28 | 0.03
Atlantic spotted dolphin | 31,506 | 1.0 | ᵃ 29 | 0.09
Common bottlenose dolphin | 64,587 | 3.0 | ᵇ 31 | 0.05
Long finned pilot whale | 39,215 | 0.4 | ᵃ 8 | 0.02
Risso's dolphin | 44,067 | 0.5 | ᵃ 5 | 0.02
Common dolphin | 93,100 | 49.3 | ᵇ 429 | 0.46
Harbor porpoise | 85,765 | 19 | 19 | 0.02
Gray seal | 27,911 | 32.4 | 32 | 0.12
Harbor seal | 61,366 | 14.4 | 14 | 0.24
ᵃ Take increased to the species assumed mean group size (86 FR 38033, July 19, 2021; 88 FR 31678, May 18, 2023).
ᵇ Take increased to equal the estimate of potential take based on previous Protected Species Observer (PSO) data (86 FR 38033, July 19, 2021; 88 FR 31678, May 18, 2023).
ᶜ Average group size for fin whales is assumed here as two. However, we increase the authorized take number to three to equal the number of whales reported observed within the estimated harassment zone by SouthCoast during 2023-2024 survey effort.

Description of Mitigation, Monitoring and Reporting Measures

The mitigation, monitoring, and reporting measures included as requirements in this authorization are identical to those included in the Federal Register notice announcing the issuance of the initial IHA (88 FR 31678, May 18, 2023), and the discussion of the least practicable adverse impact included in that document remains accurate. The following identical measures are included in this renewal:

• Ramp-up: A ramp-up procedure would be used for geophysical survey equipment capable of adjusting energy levels (i.e., any acoustic source with a non-binary switch) at the start or re-start of survey activities;

• PSOs: A minimum of one NMFS-approved PSO must be on duty and conducting visual observations at all times during daylight hours (i.e., from 30 minutes prior to sunrise through 30 minutes following sunset). Two PSOs would be on duty during nighttime operations;

• Pre-Operation Clearance Protocols: Prior to initiating HRG survey activities, SouthCoast Wind would be required to implement a 30-minute pre-operation clearance period. If any marine mammals are detected within the shutdown zones prior to or during ramp-up, the HRG equipment would be shut down (as described below);

• Shutdown Zones: If an HRG source is active and a marine mammal is observed within or entering a relevant shutdown zone, an immediate shutdown of the HRG survey equipment would be required. We note that this shutdown requirement would be waived for certain genera of small delphinids (i.e., Delphinus, Lagenorhynchus, Stenella, or Tursiops) and pinnipeds;

• Vessel Strike Avoidance Measures: 500 m (1, 640 feet (ft)) separation distances for NARWs and other large Endangered Species Act (ESA) listed whales (i.e., fin whale, sei whale, and sperm whale), 100 m (328 ft) for other non-ESA listed baleen whales (i.e., minke whale and humpback whale), and 50 m (164 ft) for all other marine mammals); as well as restricted vessel speeds and operational maneuvers; and

• Reporting: SouthCoast Wind would submit a marine mammal report within 90 days following their completion of the surveys.

Comments and Responses

A notice of NMFS' proposal to issue a renewal IHA to SouthCoast Wind was published in the Federal Register on September 19, 2024 (89 FR 76796). That notice either described, or referenced descriptions of, SouthCoast Wind's activity, the marine mammal species that may be affected by the activity, the anticipated effects on marine mammals and their habitat, estimated amount and manner of take, and proposed mitigation, monitoring and reporting measures. During the 15-day public comment period, NMFS received one comment letter from an environmental non-governmental organization, Oceana, Inc. The comments, and NMFS' responses, are summarized below, and the letter is available online on NMFS' website: https://www.fisheries.noaa.gov/permit/incidental-take-authorizations-under-marine-mammal-protection-act. Please review the comment letter found on NMFS' website for full details regarding the comments and associated rationale.

Comment 1: Oceana raised objections to NMFS' proposed renewal process for potential extension of the 1-year IHA with an abbreviated 15-day public comment period. Oceana recommended that an additional 30-day public comment period is necessary for any IHA renewal request.

Response: NMFS' IHA renewal process meets all statutory requirements. In prior responses to comments about IHA renewals (e.g., 84 FR 52464, October 2, 2019; 85 FR 53342, August 28, 2020), NMFS explained the IHA renewal process is consistent with the statutory requirements contained in section 101(a)(5)(D) of the MMPA, and further promotes NMFS' goals of improving conservation of marine mammals and increasing efficiency in the MMPA compliance process. Therefore, we intend to continue to implement the existing renewal process.

All IHAs issued, whether an initial IHA or a renewal, are valid for a period of not more than 1 year. The public has 30 days to comment on proposed IHAs, with a cumulative total of 45 days for IHA renewals. The notice of the proposed IHA published in the Federal Register on March 8, 2023 (88 FR 14335) provided a 30-day public comment period and made clear that NMFS was seeking comment on the proposed IHA and the potential issuance of a renewal IHA. As detailed in the Federal Register notice for the proposed IHA and on the agency's website, eligibility for renewal is determined on a case-by-case basis, renewals are subject to an additional 15-day public comment period, and the renewal is limited to up to another year of identical or nearly identical activities as described in the Description of Proposed Activities section of the proposed IHA notice or the activities described in the Description of Proposed Activities section of the proposed IHA notice would not be completed by the time the IHA expires and a renewal would allow for completion of the activities beyond that described in the Dates and Duration section of the proposed notice. NMFS' analysis of the anticipated impacts on marine mammals caused by the applicant's activities covers both the initial IHA period and the possibility of a 1-year renewal. Therefore, a member of the public considering commenting on a proposed initial IHA also knows exactly what activities (or subset of activities) would be included in a proposed renewal IHA, the potential impacts of those activities, the maximum amount and type of take that could be caused by those activities, the mitigation and monitoring measures that would be required, and the basis for the agency's negligible impact determinations, least practicable adverse impact findings, small numbers findings, and (if applicable) the no unmitigable adverse impact on subsistence use finding—all the information needed to provide complete and meaningful comments on a possible renewal at the time of considering the proposed initial IHA. Members of the public have the information needed to meaningfully comment on both the immediate proposed IHA and a possible 1-year renewal, should the IHA holder choose to request one.

Renewal requests must include documentation that NMFS uses to verify eligibility for renewal, i.e., that the activities are identical or nearly identical to those in the initial IHA such that the changes would have either no effect on impacts to marine mammals or decrease those impacts, or are a subset of activities already analyzed and authorized but not completed under the initial IHA. NMFS also confirms, among other things, that the activities would occur in the same location; involve the same species and stocks; provide for continuation of the same mitigation, monitoring, and reporting requirements; and that no new information has been received that would alter the prior analysis. The renewal request must also contain preliminary monitoring data, in order to verify that effects from the activities do not indicate impacts of a scale or nature not previously analyzed. The additional 15-day public comment period, which includes NMFS' direct notice to anyone who commented on the proposed initial IHA, provides the public an opportunity to review these documents, provide any additional pertinent information, and comment on whether NMFS' criteria for renewal have been met. Combined together, the 30-day public comment period on the initial IHA and the additional 15-day public comment period on the renewal of the same or nearly identical activities, provides the public with a total of 45 days to comment on the potential for renewal of the IHA.

In addition to the IHA renewal process being consistent with all requirements under section 101(a)(5)(D), it is also consistent with Congress' intent for issuance of IHAs to the extent reflected in statements in the legislative history of the MMPA. Through the description of the process and express invitation to comment on specific potential renewals in the Request for Public Comments section of each proposed IHA, the description of the process on NMFS' website, further clarification of the process through responses to comments such as these, posting of documents on the agency's website, and provision of 30 or 45 (cumulative) days for public review and comment on all proposed initial IHAs and renewals respectively, NMFS has ensured that the public is “invited and encouraged to participate fully in the agency's decision-making process,” as Congress intended.

Comment 2: Oceana stated that NMFS must rely upon the best available science, and suggested that NMFS has not done so, specifically referencing information regarding the NARW such as updated population estimates, habitat usage in the survey area, and seasonality information. Oceana specifically asserted that NMFS is not using the best available scientific evidence with regards to the NARW population estimate. Specifically, for population estimates, Oceana suggests the NARW Consortium's Annual Report Card (Report Card) is the best available science.

Response: NMFS agrees the best available scientific evidence should be used for assessing NARW abundance estimates. As detailed in the Federal Register notice for the proposed renewal IHA, NMFS reviewed and relied on the draft 2023 SAR (89 FR 76796, Sept. 19, 2024). However, we note that whether the SAR value of 340 or the updated value of 356 (see below) is used does not affect the necessary determinations related to NARW and use of the lower SAR value is conservative. The draft 2023 SAR updated the population estimate (Nbest) of North Atlantic right whales from 338 to 340 and annual mortality and serious injury from 31.2 to 27.2. The updated population estimate in the draft 2023 SAR is based upon sighting history through December 2021 (89 FR 5495, January 29, 2024). Total annual average observed North Atlantic right whale mortality during the 2017-2021 period was 7.1 animals and annual average observed fishery mortality was 4.6 animals, however, estimates of 27.2 total mortality and 17.6 fishery mortality account for undetected mortality and serious injury (89 FR 5495, January 29, 2024). In October 2023, NMFS released a technical report identifying that the North Atlantic right whale population size based on sighting history through 2022 was 356 whales, with a 95 percent credible interval ranging from 346 to 363 (Linden, 2023). The North Atlantic Right Whale Consortium 2023 Report Card is available (https://www.narwc.org/report-cards.html), and presents the same population estimate as the NMFS 2023 technical report (Linden 2023). We note that this difference in abundance estimate does not change the estimated take of NARWs or authorized take numbers, nor does it meaningfully influence the required findings under the MMPA for the issuance of an IHA to SouthCoast Wind for the proposed survey activities.

In sum, NMFS considered the best available scientific evidence regarding both recent habitat usage patterns for the study area and up-to-date seasonality information in the notice of the proposed IHA, including consideration of existing biologically important areas (BIAs) and densities provided by Roberts et al. (2024). While the commenter has suggested that NMFS consider best available scientific evidence for recent habitat usage patterns and seasonality, the commenter has not offered any additional scientific information that it suggests should be considered best available scientific evidence.

Comment 3: Oceana noted that chronic stressors are an emerging concern for NARW conservation and recovery, and stated that chronic stress may result in energetic effects for NARWs. Oceana suggested that NMFS has not fully considered both the use of the area and the effects of both acute and chronic stressors on the health and fitness of NARWs, as disturbance responses in NARWs could lead to chronic stress or habitat displacement, leading to an overall decline in their health and fitness.

Response: NMFS agrees with Oceana that both acute and chronic stressors are of concern for NARW conservation and recovery. We recognize that acute stress from acoustic exposure is one potential impact of these surveys, and that chronic stress can have fitness, reproductive, etc. impacts at the population-level scale. NMFS has carefully reviewed the best available scientific information in assessing impacts to marine mammals, and recognizes that the surveys have the potential to impact marine mammals through behavioral effects and stress responses. However, NMFS does not expect that the generally short-term, intermittent, and transitory marine site characterization survey activities planned by SouthCoast Wind will create conditions of acute or chronic acoustic exposure leading to long-term physiological stress responses in marine mammals. NMFS has prescribed a robust suite of mitigation measures, including extended distance shutdowns for NARW, that are expected to further reduce the duration and intensity of acoustic exposure, while limiting the potential severity of any possible behavioral disruption. The potential for chronic stress was evaluated in making the determinations presented in NMFS' negligible impact analyses.

SouthCoast Wind's survey area is near a known NARW foraging location in the New England region, as well as overlapping a small fraction of the migratory corridor used by NARW in a transitory manner for annual migratory activities. Given that the potential impacts for these types of surveys are expected to be low level, in part as a result of the brief periods where harassment-level noise exposure may be possible, we do not expect chronic effects to occur as a result of SouthCoast Wind's surveys. Furthermore, the limited range to the estimated harassment zone of the largest acoustic source (141 m (463 ft)) and the survey path within and near the SouthCoast Wind lease means that the area where NARWs are known to concentrate within Nantucket Shoals would not be impacted. Because of this, we do not expect effects to include reduced foraging opportunities for NARWs. NMFS does not expect acute or cumulative stress to be a detrimental factor to NARWs from SouthCoast Wind's described survey activities.

Lastly, NMFS does not find that the effects of SouthCoast Wind's survey may contribute to stunted growth rates as suggested by Oceana's comments. The activities associated with SouthCoast Wind's survey are outside the scope of activities described in the Stewart et al. (2021) paper, which finds that entanglements in fishing gear are associated with shorter whales. There is no evidence suggesting that the survey activities considered herein could have energetic effects similar to those caused by entanglement in fishing gear. Therefore, NMFS does not expect stunted growth rates to result from SouthCoast Wind's described survey activities.

Comment 4: Oceana asserted that NMFS must fully consider the discrete effects of each activity and the cumulative effects of the suite of approved, proposed and potential activities on marine mammals and NARWs in particular and ensure that the cumulative effects are not excessive before issuing or renewing an IHA.

Response: Neither the MMPA nor NMFS' codified implementing regulations call for consideration of other unrelated activities and their impacts on populations. The preamble for NMFS' implementing regulations (54 FR 40338, September 29, 1989) states in response to comments that the impacts from other past and ongoing anthropogenic activities are to be incorporated into the negligible impact analysis via their impacts on the baseline. Consistent with that direction, NMFS has factored into its negligible impact analysis the impacts of other past and ongoing anthropogenic activities via their impacts on the baseline, e.g., as reflected in the density/distribution and status of the species, population size and growth rate, and other relevant stressors. The 1989 final rule for the MMPA implementing regulations also addressed public comments regarding cumulative effects from future, unrelated activities. There NMFS stated that such effects are not considered in making findings under section 101(a)(5) concerning negligible impact. In this case, this IHA, as well as other IHAs currently in effect or proposed within the specified geographic region, are appropriately considered an unrelated activity relative to the others. The IHAs are unrelated in the sense that they are discrete actions under section 101(a)(5)(D), issued to discrete applicants.

Section 101(a)(5)(D) of the MMPA requires NMFS to make a determination that the take incidental to a “specified activity” will have a negligible impact on the affected species or stocks of marine mammals. NMFS' implementing regulations require applicants to include in their request a detailed description of the specified activity or class of activities that can be expected to result in incidental taking of marine mammals (50 CFR 216.104(a)(1)). Thus, the “specified activity” for which incidental take coverage is being sought under section 101(a)(5)(D) is generally defined and described by the applicant. Here, SouthCoast Wind was the applicant for the IHA, and we are responding to the specified activity as described in that application (and making the necessary findings on that basis).

Through the response to public comments in the 1989 implementing regulations (54 FR 40338, September 29, 1989), NMFS also indicated (1) that we would consider cumulative effects that are reasonably foreseeable when preparing a National Environmental Protection Act (NEPA) analysis, and (2) that reasonably foreseeable cumulative effects would also be considered under section 7 of the ESA for listed species, as appropriate. Accordingly, NMFS has written Environmental Assessments (EA) that addressed cumulative impacts related to substantially similar activities, in similar locations, e.g., the 2019 Avangrid EA for survey activities offshore North Carolina and Virginia; the 2017 Ocean Wind, LLC EA for site characterization surveys off New Jersey; and the 2018 Deepwater Wind EA for survey activities offshore Delaware, Massachusetts, and Rhode Island. Cumulative impacts regarding issuance of IHAs for site characterization survey activities, such as those planned by SouthCoast Wind, have been adequately addressed under NEPA in prior environmental analyses that support NMFS' determination that this action is appropriately categorically excluded from further NEPA analysis. NMFS independently evaluated the use of a categorical exclusion (CE) for issuance of SouthCoast Wind's IHA, which included consideration of extraordinary circumstances.

Separately, the cumulative effects of substantially similar activities in the northwest Atlantic Ocean have been analyzed in the past under section 7 of the ESA when NMFS has engaged in formal intra-agency consultation, such as the 2013 programmatic Biological Opinion for BOEM Lease and Site Assessment Activities on the Atlantic Outer Continental Shelf in Rhode Island, Massachusetts, New York, and New Jersey Wind Energy Areas (https://repository.library.noaa.gov/view/noaa/29291).

Analyzed activities include those for which NMFS issued previous IHAs (82 FR 31562, July 7, 2017; 85 FR 21198, April 16, 2020; 86 FR 26465, May 10, 2021), which are similar to those planned by SouthCoast Wind under this current IHA request. This Biological Opinion determined that NMFS' issuance of IHAs for site characterization survey activities associated with leasing, individually and cumulatively, are not likely to adversely affect listed marine mammals. NMFS notes that, while issuance of this IHA is covered under a different consultation, this Biological Opinion remains valid. Additionally, to date, Biological Opinions have been developed and completed for several ongoing offshore wind construction projects, which all include ongoing HRG survey effort similar to that considered here (see the final Biological Opinions for Ocean Wind 1 (https://repository.library.noaa.gov/view/noaa/49689), Revolution Wind's original (https://repository.library.noaa.gov/view/noaa/51759) and reinitiated (https://www.fisheries.noaa.gov/s3/2024-05/2024-Rev-Wind-BiOp-508.pdf), CVOW-C (https://repository.library.noaa.gov/view/noaa/55495), Empire Wind (https://repository.library.noaa.gov/view/noaa/55324), Sunrise Wind (https://repository.library.noaa.gov/view/noaa/55726), New England Wind (https://repository.library.noaa.gov/view/noaa/60610), and Maryland Wind (https://repository.library.noaa.gov/view/noaa/61632)). These Biological Opinions for larger-scale construction and development projects have all assessed the cumulative activities occurring within the relevant project areas, which include HRG activities occurring under IHAs, as well as HRG surveys and other construction activities occurring under Incidental Take Regulations and associated issued Letters of Authorization. In all cases, the HRG surveys analyzed within these Biological Opinions are of substantially similar activities, using the same or similar acoustic sources as those planned for use by SouthCoast Wind under this renewal IHA. Based on this information, NMFS believes the discrete and cumulative effects have been adequately analyzed and considered under these existing documents.

Comment 5: Oceana states that NMFS must make an assessment of which activities, technologies, and strategies are truly necessary to achieve site characterization to inform development of the offshore wind projects and which are not critical, asserting that NMFS should prescribe the appropriate survey techniques. In general, Oceana stated that NMFS must require that all IHA applicants minimize the impacts of underwater noise to the fullest extent feasible, including through the use of best available technology and methods to minimize sound levels from geophysical surveys such as through the use of technically and commercially feasible and effective noise reduction and attenuation measures.

Response: The MMPA requires that an IHA include measures that will effect the least practicable adverse impact on the affected species and stocks and, in practice, NMFS agrees that the IHA should include conditions for the survey activities that will first avoid adverse effects on NARWs in and around the survey site, where practicable, and then minimize the effects that cannot be avoided. NMFS has determined that the IHA meets this requirement to effect the least practicable adverse impact. As part of the analysis for all marine site characterization survey IHAs, NMFS evaluated the effects expected as a result of the specified activity, made the necessary findings, and prescribed mitigation requirements sufficient to achieve the least practicable adverse impact on the affected species and stocks of marine mammals. It is not within NMFS' purview to set the activities, technologies, and strategies that one may employ to meet their survey objectives.

Comment 6: Oceana states that SouthCoast Wind's activities will increase vessel traffic in and around the project area and that the IHA must include a vessel traffic plan to minimize the effects of increased vessel traffic.

Response: NMFS disagrees with Oceana's statement that the IHA must require a vessel traffic plan. During HRG surveys, there are no service vessels required. NMFS agrees that a vessel plan may be potentially appropriate for project construction, but it is not needed for marine site characterization surveys. A vessel traffic plan is not required because 24 total days of SouthCoast Wind HRG surveys are not expected to increase vessel traffic in the project area substantially in comparison to existing vessel traffic. Vessel strike avoidance measures are required under the renewal IHA, and explained in detail in the response to comment number eight.

Comment 7: Oceana suggests that PSOs complement their survey efforts using additional technologies, such as infrared detection devices when in low-light conditions.

Response: NMFS agrees with Oceana regarding this suggestion and a requirement to utilize a thermal (infrared) device during low-light conditions was included in section 5(d)(i) of the proposed renewal's draft IHA. That requirement is included in the renewal IHA.

Comment 8: Oceana recommended that NMFS restrict all vessels of all sizes associated with the proposed survey activities to speeds less than 10 knots (kn) (18.5 kilometer/hour (km/hour))) at all times due to the risk of vessel strikes to NARWs and other large whales.

Response: While NMFS acknowledges that vessel strikes can result in injury or mortality, we have analyzed the potential for vessel strike resulting from SouthCoast Wind's activity and have determined that based on the nature of the activity and the required mitigation measures specific to vessel strike avoidance included in the IHA, potential for vessel strike is so low as to be discountable. The required mitigation measures, all of which were included in the proposed IHA and are now required in the final IHA, include: A requirement that all vessel operators comply with 10 kn (18.5 km/hour) or less speed restrictions in any seasonal management area (SMA), dynamic management area (DMA), or Slow Zone while underway, and check daily for information regarding the establishment of mandatory or voluntary vessel strike avoidance areas (SMAs, DMAs, Slow Zones) and information regarding NARW sighting locations; a requirement that all vessels greater than or equal to 19.8 m (65 ft) in overall length operating from November 1 through April 30 operate at speeds of 10 kn (18.5 km/hour) or less; a requirement that all vessel operators reduce vessel speed to 10 kn (18.5 km/hour) or less when any large whale, any mother/calf pairs, pods, or large assemblages of non-delphinid cetaceans are observed near the vessel; a requirement that all survey vessels maintain a separation distance of 500 m (1,640 ft or greater from NARWs (100 m (328 ft) from any ESA-listed whales) or other unidentified large marine mammals visible at the surface while underway; a requirement that, if underway, vessels must steer a course away from any sighted ESA-listed whale at 10 kn (18.5 km/hour) or less until the 100 m (328 ft) minimum separation distance (or 500 m (1,640 ft) distance for NARWs) has been established; a requirement that, if an ESA-listed whale is sighted in a vessel's path, or within 100 m (328 ft) of an underway vessel (500 m (1,640 ft) for a NARW), the underway vessel must reduce speed and shift the engine to neutral; and, a requirement that all vessels underway must maintain a minimum separation distance of 100 m (328 ft) from all other marine mammals (excluding NARWs), with an understanding that at times this may not be possible (e.g., for animals that approach the vessel). We have determined that the vessel strike avoidance measures in the IHA are sufficient to ensure the least practicable adverse impact on species or stocks and their habitat. Furthermore, no documented vessel strikes have occurred for any marine site characterization surveys which were issued IHAs from NMFS during the survey activities themselves or while transiting to and from survey sites.

Comment 9: Oceana suggests that NMFS require vessels maintain a separation distance of at least 500 m (1,640 ft) from NARWs at all times.

Response: NMFS agrees with Oceana regarding this suggestion and a requirement to maintain a separation distance of at least 500 m (1,640 ft) from NARWs at all times was included in the proposed renewal's Federal Register notice and was included as a requirement in the issued renewal IHA. This separation requirement was also a measure in the initial 2023 IHA.

Comment 10: Oceana recommended that the IHA should require all vessels supporting site characterization to be equipped with and use Class A Automatic Identification System (AIS) devices at all times while on the water. Oceana suggested this requirement should apply to all vessels, regardless of size, associated with the survey.

Response: NMFS is generally supportive of the idea that vessels involved with survey activities be equipped with and use Class A AIS devices at all times while on the water. Indeed, there is a precedent for NMFS requiring such a stipulation for geophysical surveys in the Atlantic Ocean (83 FR 63268, December 7, 2018); however, these seismic surveys carried the potential for much more significant impacts than the marine site characterization surveys planned by SouthCoast Wind. Given the comparatively small footprint of potential effects and correspondingly low level of concern regarding HRG survey activities, NMFS has determined that the operational costs associated with a requirement to equip vessels, who would otherwise not be required to carry AIS, are not warranted under the MMPA's least practicable adverse impact standard.

Comment 11: Oceana asserts that the IHA must include requirements to hold all vessels associated with site characterization surveys accountable to the IHA requirements, including vessels owned by the developer, contractors, employees, and others regardless of ownership, operator, and contract. They state that exceptions and exemptions will create enforcement uncertainty and incentives to evade regulations through reclassification and redesignation. They recommend that NMFS simplify this by requiring all vessels to abide by the same requirements, regardless of size, ownership, function, contract, or other specifics.

Response: NMFS agrees with Oceana and the proposed IHA and final IHA has general conditions to hold SouthCoast Wind and its designees (including vessel operators and other personnel) accountable while performing operations under the authority of the IHA. The plain language of the renewal IHA indicates that the conditions contained therein apply to SouthCoast Wind and its designees. The renewal IHA requires that a copy of the IHA must be in the possession of SouthCoast Wind, the vessel operators, the lead PSO, and any other relevant designees of SouthCoast Wind operating under the authority of this IHA. The renewal IHA also states that SouthCoast Wind must ensure that the vessel operator and other relevant vessel personnel, including the PSO team, are briefed on all responsibilities, communication procedures, marine mammal monitoring protocols, operational procedures, and IHA requirements prior to the start of survey activity, and when relevant new personnel join the survey operations.

Comment 12: Oceana stated that the renewal IHA must include a requirement for all phases of the site characterization to subscribe to the highest level of transparency, including frequent reporting to Federal agencies. Oceana recommends requirements to report all visual and acoustic detections of NARWs and any dead, injured, or entangled marine mammals to NMFS or the Coast Guard as soon as possible and no later than the end of the PSO shift. Oceana states that to foster stakeholder relationships and allow public engagement and oversight of the permitting, the renewal IHA should require all reports and data to be accessible on a publicly available website.

Response: NMFS agrees with the need for reporting and, indeed, the MMPA calls for IHAs to incorporate reporting requirements. As included in the proposed IHA, the final IHA includes requirements for reporting that supports Oceana's recommendations. SouthCoast Wind is required to submit a monitoring report to NMFS within 90 days after completion of survey activities that fully documents the methods and monitoring protocols, summarizes the data recorded during monitoring. PSO datasheets or raw sightings data must also be provided with the draft and final monitoring report.

Further, the draft IHA and final IHA stipulate that if a NARW is observed at any time by any survey vessels, during surveys or during vessel transit, SouthCoast Wind must immediately report sighting information to the NMFS NARW Sighting Advisory System within 2 hours of occurrence, when practicable, or no later than 24 hours after occurrence. SouthCoast Wind may also report the sighting to the U.S. Coast Guard. Additionally, SouthCoast Wind must report any discoveries of injured or dead marine mammals to the Office of Protected Resources, NMFS, and to the New England/Mid-Atlantic Regional Stranding Coordinator as soon as feasible. This includes entangled animals. All reports and associated data submitted to NMFS are included on the website for public inspection.

Daily visual and acoustic detections of NARWs and other large whale species along the Eastern Seaboard, as well as Slow Zone locations, are publicly available on WhaleMap (https://whalemap.org/WhaleMap/). Further, recent acoustic detections of NARWs and other large whale species are available to the public on NOAA's Passive Acoustic Cetacean Map website (https://apps-nefsc.fisheries.noaa.gov/pacm/#/narw).

Comment 13: Oceana recommended increasing the shutdown zone to 1,000 m (3,281 ft) for NARWs with requirements for HRG survey vessels to use PSOs and Passive Acoustic Monitoring (PAM) to establish and monitor these zones.

Response: NMFS notes that the 500 m (1,640 ft) shutdown zone for NARWs exceeds the modeled distance to the largest 160 dB Level B harassment isopleth (141 m (463 ft) during sparker use) by a conservative margin to be extra cautious. Commenters do not provide a compelling rationale for why the shutdown zone should be even larger. Given that these surveys are relatively low impact and that, regardless, NMFS has prescribed a precautionary NARW shutdown zone that is larger (500 m (1,640 ft)) than the conservatively estimated largest harassment zone (141 m (463 ft)), NMFS has determined that the shutdown zone is appropriate and an expansion of the shutdown zone to 1,000 m (3,281 ft) is not warranted.

Regarding the use of acoustic monitoring to implement the shutdown zones, NMFS does not anticipate that acoustic monitoring would be effective for a variety of reasons discussed below and therefore has not required it in this IHA. As described in the Description of Mitigation, Monitoring and Reporting Measures section, NMFS has determined that the prescribed mitigation and monitoring requirements are sufficient to effect the least practicable adverse impact on all affected species or stocks.

The commenters do not explain why they expect that PAM would be effective in detecting vocalizing mysticetes, nor does NMFS agree that this measure is warranted, as it is not expected to be effective for use in detecting the species of concern. It is generally accepted that, even in the absence of additional acoustic sources, using a towed passive acoustic sensor to detect baleen whales (including NARWs) is not typically effective because the noise from the vessel, the flow noise, and the cable noise are in the same frequency band and will mask the vast majority of baleen whale calls. Vessels produce low-frequency noise, primarily through propeller cavitation, with main energy in the 5-300 hertz (Hz) frequency range. Source levels range from about 140 to 195 decibel (dB) re 1 micropascal (μPa) at 1 meter (NRC, 2003; Hildebrand, 2009), depending on factors such as ship type, load, and speed, and ship hull and propeller design. Studies of vessel noise show that it appears to increase background noise levels in the 71-224 Hz range by 10-13 dB (Hatch et al., 2012; McKenna et al., 2012; Rolland et al., 2012). PAM systems employ hydrophones towed in streamer cables approximately 500 m (1,640 ft) behind a vessel. Noise from water flow around the cables and from strumming of the cables themselves is also low frequency and typically masks signals in the same range. Experienced PAM operators participating in a recent workshop (Thode et al., 2017) emphasized that a PAM operation could easily report no acoustic encounters, depending on species present, simply because background noise levels rendered any acoustic detection impossible. The same workshop report stated that a typical eight-element array towed 500 m (1,640 ft) behind a vessel could be expected to detect delphinids, sperm whales, and beaked whales at the required range, but not baleen whales, due to expected background noise levels (including seismic noise, vessel noise, and flow noise).

There are several additional reasons why we do not agree that use of PAM is warranted for 24-hour HRG surveys. While NMFS agrees that PAM can be an important tool for augmenting detection capabilities in certain circumstances, its utility in further reducing impact during HRG survey activities is limited. First, for this activity, the area expected to be ensonified above the Level B harassment threshold is relatively small (a maximum of 141 m (463 ft)); this reflects the fact that, to start with, the source level is comparatively low and the intensity of any resulting impacts would be lower level and, further, it means that inasmuch as PAM will only detect a portion of any animals exposed within a zone, the overall probability of PAM detecting an animal in the harassment zone is low. Together these factors support the limited value of PAM for use in reducing take with smaller zones. PAM is only capable of detecting animals that are actively vocalizing and, many marine mammal species vocalize infrequently or during certain activities, which means that only a subset of the animals within the range of the PAM would be detected (and potentially have reduced impacts). Additionally, localization and range detection can be challenging under certain scenarios. For example, odontocetes are fast moving and often travel in large or dispersed groups which makes localization difficult.

Given that the effects to marine mammals from the types of surveys authorized in this IHA are expected to be limited to low level behavioral harassment even in the absence of mitigation, the limited additional benefit anticipated by adding this detection method (especially for NARW and other low frequency cetaceans, species for which PAM has limited efficacy), and the cost and impracticability of implementing a full-time PAM program, we have determined the current requirements for visual monitoring are sufficient to ensure the least practicable adverse impact on the affected species or stocks and their habitat.

Comment 14: Oceana recommended that when HRG surveys are allowed to resume after a shutdown event, the surveys should be required to use a ramp-up procedure to encourage any nearby marine life to leave the area.

Response: NMFS agrees with this recommendation and included in the Federal Register notice of the proposed IHA (88 FR 14335, March 8, 2023) and this final IHA a stipulation that when technically feasible, survey equipment must be ramped up at the start or restart of survey activities. Ramp-up must begin with the power of the smallest acoustic equipment at its lowest practical power output appropriate for the survey. When technically feasible the power must then be gradually turned up and other acoustic sources added in a way such that the source level would increase gradually. NMFS notes that ramp-up would not be required for short periods where acoustic sources were shut down (i.e., less than 30 minutes) if PSOs have maintained constant visual observation and no detections of marine mammals occurred within the applicable shutdown zones.

Changes From Proposed to Final Renewal IHA

No changes were made from the proposed renewal IHA to the final renewal IHA.

Determinations

SouthCoast Wind's planned activities consist of a subset of activities analyzed in the initial IHA. In analyzing the effects of the activities for the initial IHA, NMFS determined that SouthCoast Wind 's activities would have a negligible impact on the affected species or stocks and that authorized take numbers of each species or stock were small relative to the relevant stocks (e.g., less than one-third the abundance of all stocks). The required mitigation measures and monitoring and reporting requirements, as described above, are identical to the initial IHA.

NMFS has concluded that there is no new information suggesting that our analysis or findings should change from those reached for the initial IHA. This includes consideration of the draft 2023 SAR estimated abundance of the NARW stock and other stocks, as shown in table 2 of the Federal Register notice for the proposed renewal IHA (89 FR 76796, September 19, 2024). NMFS has authorized two takes of NARW, by Level B harassment only, and the impacts resulting from the project's activities are neither reasonably expected nor reasonably likely to adversely affect the stock through effects on annual rates of recruitment or survival. Additionally, only about 0.59 percent of this stock's abundance is authorized to be taken by Level B harassment.

Based on the information and analysis contained here and in the referenced documents, NMFS has determined the following: (1) the required mitigation measures will effect the least practicable impact on marine mammal species or stocks and their habitat; (2) the authorized takes will have a negligible impact on the affected marine mammal species or stocks; (3) the authorized takes represent small numbers of marine mammals relative to the affected stock abundances; (4) SouthCoast Wind's activities will not have an unmitigable adverse impact on taking for subsistence purposes as no relevant subsistence uses of marine mammals are implicated by this action, and; (5) appropriate monitoring and reporting requirements are included.

National Environmental Policy Act

This action is consistent with categories of activities identified in Categorical Exclusion B4 (incidental take authorizations with no anticipated serious injury or mortality) of the Companion Manual for NOAA Administrative Order 216-6A, which do not individually or cumulatively have the potential for significant impacts on the quality of the human environment and for which we have not identified any extraordinary circumstances that would preclude this categorical exclusion. Accordingly, NMFS determined that the issuance of the initial IHA qualified to be categorically excluded from further NEPA review. NMFS has determined that the application of this categorical exclusion remains appropriate for this renewal IHA.

Endangered Species Act

Section 7(a)(2) of the ESA of 1973 (16 U.S.C. 1531 et seq.) requires that each Federal agency insure that any action it authorizes, funds, or carries out is not likely to jeopardize the continued existence of any endangered or threatened species or result in the destruction or adverse modification of designated critical habitat. To ensure ESA compliance for the issuance of IHAs, NMFS consults internally whenever we propose to authorize take for endangered or threatened species.

NMFS Office of Protected Resources has authorized the incidental take of four species of marine mammals which are listed under the ESA, including the North Atlantic right, fin, sei, and sperm whale, and has determined that these activities fall within the scope of activities analyzed in NMFS Greater Atlantic Regional Fisheries Office's programmatic consultation regarding geophysical surveys along the U.S. Atlantic coast in the three Atlantic Renewable Energy Regions (completed June 29, 2021; revised September 2021).

Renewal

NMFS has issued a renewal IHA to SouthCoast Wind for the take of 15 species (comprising 16 stocks) of marine mammals incidental to conducting marine site characterization surveys offshore of Massachusetts and Rhode Island in the BOEM Lease Area OCS-A 0521 and associated ECR areas, which include the previously explained mitigation, monitoring, and reporting requirements.

Dated: October 22, 2024.
Kimberly Damon-Randall,
Director, Office of Protected Resources, National Marine Fisheries Service.

[FR Doc. 2024-24889 Filed 10-24-24; 8:45 am]

BILLING CODE 3510-22-P